DEPARTMENT OF ENERGY

Federal Energy Regulatory Commission

Combined Notice of Filings

Take notice that the Commission has received the following Natural Gas Pipeline Rate and Refund Report filings:

Filings Instituting Proceedings

Docket Numbers: RP12-1-000.

Applicants: Crossroads Pipeline Company.

Description: Crossroads Pipeline Company submits tariff filing per 154.204: Service Agreements—Non-Conforming Clean Up to be effective 11/3/2011.

Filed Date: 10/03/2011.

Accession Number: 20111003-5125.

Comment Date: 5 p.m. Eastern Time on Monday, October 17, 2011.

Docket Numbers: RP12-2-000.

Applicants: Central Kentucky Transmission Company.

Description: Central Kentucky Transmission Company submits tariff filing per 154.204: Service Agreements—Non-Conforming Clean Up to be effective 11/3/2011.

Filed Date: 10/03/2011.

Accession Number: 20111003-5153.

Comment Date: 5 p.m. Eastern Time on Monday, October 17, 2011.

Docket Numbers: RP12-4-000.

Applicants: Energy West Development, Inc.

Description: Energy West Development, Inc. submits tariff filing per 154.402: EWD ACA Amendment Filing to be effective 10/3/2011.

Filed Date: 10/03/2011.

Accession Number: 20111003-5226.

Comment Date: 5 p.m. Eastern Time on Monday, October 17, 2011.

Docket Numbers: RP12-5-000.

Applicants: Hardy Storage Company, LLC.

Description: Hardy Storage Company, LLC submits tariff filing per 154.204: Service Agreements—Non-Conforming Clean Up to be effective 11/3/2011.

Filed Date: 10/03/2011.

Accession Number: 20111003-5233.

Comment Date: 5 p.m. Eastern Time on Monday, October 17, 2011.

Docket Numbers: RP12-6-000.

Applicants: Gulf South Pipeline Company, LP.

Description: Gulf South Pipeline Company, LP submits tariff filing per 154.204: Sequent 39121 Negotiated Rate Agreement to be effective 10/4/2011.

Filed Date: 10/04/2011.

Accession Number: 20111004-5010.

Comment Date: 5 p.m. Eastern Time on Monday, October 17, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 4, 2011.
Nathaniel J. Davis, Sr.
Deputy Secretary.

[FR Doc. 2011-26284 Filed 10-11-11; 8:45 am]

BILLING CODE 6717-01-P